DEPARTMENT OF EDUCATION

[CFDA No: 84.217A]

Office of Postsecondary Education; Ronald E. McNair Postbaccalaureate Achievement (McNair) Program; Notice Inviting Applications for New Awards for Fiscal Year (FY) 2003

Purpose of Program: To provide grants for higher education institutions to prepare low-income, first generation college students, and students from groups underrepresented in graduate education, for doctoral study.

Eligible Applicants: Institutions of higher education and combinations of those institutions.

Applications Available: September 30, 2002.

Deadline for Transmittal of Applications: October 30, 2002.

Deadline for Intergovernmental Review: December 29, 2002.

Estimated Available Funds: The Administration has requested $36.9 million for this program for FY 2003. The actual level of funding, if any, depends on final congressional action. However, we are inviting applications to allow enough time to complete the grant process if Congress appropriates funds for this program.

SUPPLEMENTARY INFORMATION: Currently, there are McNair Program grantees with both four and five-year grant award cycles that expire in FY 2003, FY 2004, and FY 2005, respectively. However, to compete for a new four or five-year grant award, all applicants, including those that have five-year grants that expire in FY 2004 and 2005 must submit an application under the FY 2003 competition.

Grantees whose grants expire in FY 2004 and FY 2005: If such a grantee is successful under this competition, its new award cycle will begin when its existing grant expires on either October 1, 2004 or October 1, 2005 subject to the availability of funds.

Estimated Range of Awards: $190,000-$316,000 per year.

Estimated Average Size of Awards: $236,000 per year.

Estimated Number of Awards: 156.

Note: The Department is not bound by any of the estimates in this notice.

Project Period: Up to 60 months.

Page Limit: The application narrative (Part III of the application) is where you, the applicant, address the selection criteria that reviewers use to evaluate your application. You must limit Part III to the equivalent of no more than 100 pages using the following standards:

• A “page” is 8.5″ by 11″, on one side only, with 1″ margins at the top, bottom, and both sides.

• Double space (no more than three lines per vertical inch) all text in the application narrative, including titles, headings, footnotes, quotations, references, and captions, as well as all text in charts, tables, figures, and graphs.

• Use a font that is either 12 point, or larger or no smaller than 10 pitch (characters per inch).

The page limit does not apply to Part I, the cover sheet; Part II, the budget section, including the narrative budget justification; Part IV, the assurances and certifications; or the one-page abstract, the resumes, the bibliography, or the letters of support. However, you must include all of the application narrative in Part III.

We will reject your application if—

• You apply these standards and exceed the page limit; or

• You apply other standards and exceed the equivalent of the page limit.

Applicable Regulations: (a) The Education Department General Administrative Regulations (EDGAR) in 34 CFR parts 74, 75, 77, 79, 80, 81, 82, 85, 86, 97, 98, and 99; and (b) The regulations for this program in 34 CFR part 647.

For Applications and Further Information Contact: Eileen S. Bland or Reginald D. Williams, Office of Federal TRIO Programs, U.S. Department of Education, 1990 K Street, NW, Suite 7000, Washington, DC 20202-8510. Telephone: (202) 502-7600 or via Internet: TRIO@ed.gov.

If you use a telecommunications device for the deaf (TDD), you may call the Federal Information Relay Service (FIRS) at 1-800-877-8339.

Individuals with disabilities may obtain this document in an alternative format (e.g., Braille, large print, audiotape, or computer diskette) on request to the contact persons listed under For Applications and Further Information Contact.

Individuals with disabilities may obtain a copy of the application package in an alternative format by contacting those persons. However, the Department is not able to reproduce in an alternative format the standard forms included in the application package.

Electronic Access to This Document

You may view this document, as well as all other Department of Education documents published in the Federal Register, in text or Adobe Portable Document Format (PDF) on the Internet at the following site: www.ed.gov/legislation/FedRegister.

To use PDF you must have Adobe Acrobat Reader, which is available free at this site. If you have questions about using PDF, call the U.S. Government Printing Office (GPO) toll free, at 1-888-293-6498; or in the Washington, DC, area at (202) 512-1530.

Note: The official version of this document is the document published in the Federal Register. Free Internet access to the official edition of the Federal Register and the Code of Federal Regulations is available on GPO Access at: http://www.access.gpo.gov/nara/index.html.

Program Authority: 20 U.S.C. 1070a-11 and 1070a-15.

Dated: September 17, 2002.
Sally L. Stroup,
Assistant Secretary, Office of Postsecondary Education.

[FR Doc. 02-24009 Filed 9-19-02; 8:45 am]

BILLING CODE 4001-01-P